DEPARTMENT OF HOMELAND SECURITY

Coast Guard

[USCG-2011-0641]

Accommodation Service Provided on Vessels Engaged in U.S. Outer Continental Shelf Activities

AGENCY: Coast Guard, DHS.

ACTION: Request for public comments.

SUMMARY: The Coast Guard requests public comment on the appropriate standards for the design, construction, and operation of all vessels providing accommodation service on the U.S. Outer Continental Shelf.

DATES: Comments and related material must either be submitted to our online docket via http://www.regulations.gov on or before May 1, 2012 or reach the Docket Management Facility by that date.

ADDRESSES: You may submit comments identified by docket number USCG-2011-0641 using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. See the “Public Participation and Request for Comments” portion of the SUPPLEMENTARY INFORMATION section below for instructions on submitting comments.

FOR FURTHER INFORMATION CONTACT: If you have questions on this notice, call Mr. William Peters, U.S. Coast Guard, Office of Design and Engineering Standards, Naval Architecture Division (CG-5212), telephone (202) 372-1371. If you have questions on viewing or submitting material to the docket, call Renee V. Wright, Program Manager, Docket Operations, telephone (202) 366-9826.

SUPPLEMENTARY INFORMATION:

I. Public Participation and Request for Comments

All comments received will be posted, without change, to http://www.regulations.gov and will include any personal information you have provided. We have an agreement with the Department of Transportation (DOT) to use the Docket Management Facility. Please see DOT's “Privacy Act” paragraph below.

A. Submitting Comments

If you submit a comment, please include the docket number for this notice (USCG-2011-0641), indicate the specific section of this document to which each comment applies, and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov and insert “USCG-2011-0641” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope.

B. Viewing Comments

To view comments, go to http://www.regulations.gov, click on the “read comments” box, which will then become highlighted in blue. In the “Keyword” box insert “USCG-2011-0641” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of all comments received into any of our dockets by the name of the individual submitting the comment (or signing the comment, if submitted on behalf of an association, business, labor union, etc.). You may review a Privacy Act notice regarding our public dockets in the January 17, 2008, issue of the Federal Register (73 FR 3316).

II. Background

A. General

The offshore mineral and energy exploration and production industry has progressively moved Outer Continental Shelf (OCS) activities into deeper waters and further offshore. Because of this, we believe that the use of vessels providing accommodation service on the U.S. OCS will continue to grow.

Vessels that provide accommodation service are commonly referred to as “floating hotels,” “floatels,” or “flotels,” and typically supply hotel-like services (such as dining, berthing, and access to recreational facilities) for personnel who are not engaged in work aboard the vessel itself but are engaged in work on a nearby OCS installation (referred to hereafter as “accommodated personnel”). These vessels support OCS installations during various phases of construction and operation, including initiation, commissioning, maintenance, repair, modification, and decommissioning. During these phases, the OCS installation may not always be fully operational and may not have necessary safety systems in place for the accommodation of any personnel.

There are several vessel types that are capable of providing accommodation service, including purpose-built accommodation vessels, passenger vessels, industrial vessels, and multi-purpose support vessels. The number of accommodated personnel can range from a handful to several hundreds. The designs of these vessels range from the traditional ship-shape monohull to column-stabilized Mobile Offshore Units (MOUs) and box-shape barges. It is not uncommon for these vessels to maintain station near an OCS installation by using a dynamic positioning system (DPS) while accommodated personnel are transferred to and from the OCS installation, often by means of a motion-compensated gangway or personnel transfer baskets.

B. Existing Standards

U.S. law grants broad authority to the Coast Guard for the promulgation of regulations governing vessels providing accommodation service on the U.S. OCS.¹ While there are no current federal regulations for vessels providing accommodation service, U.S. flag vessels must comply with Coast Guard requirements, which are organized according to intended service. The current vessel categories include, among others, passenger vessels, Mobile Offshore Drilling Units (MODUs), offshore supply vessels (OSVs), and cargo and miscellaneous vessels. These categories of vessels are inspected under Title 46, Code of Federal Regulations (CFR), Chapter I, Subchapters H, I-A, L, and I, respectively.

¹ The “Outer Continental Shelf Lands Act”, 43 U.S.C. 1331, et seq.

Federal regulations also currently do not contain a category for accommodated personnel. Existing categories used by the Coast Guard on Certificates of Inspection are: Passengers, crew, other persons in crew, and persons in addition to crew. On specific vessel types, the Coast Guard uses additional personnel categories, including industrial personnel, offshore workers, scientific personnel, cadets, instructors, and sailing school students.

In the absence of applicable U.S. regulations, the Coast Guard has not inspected any U.S. flag vessels engaged in accommodation service. Foreign flag vessels providing accommodation service must meet requirements established by their flag Administration.

In mandatory provisions of the International Convention for the Safety of Life at Sea Convention (SOLAS), vessels are characterized either as passenger or cargo ships, and personnel as either passengers or crew.² In addition, the International Maritime Organization (IMO) promulgates voluntary codes and guidelines, which also identify another personnel category—special personnel who are carried on board in connection with the special purpose of or the special work carried out on the ship. Voluntary codes also often mention other specialized vessel types.

² “* * *or other persons employed or engaged in any capacity on board a ship on the business of that ship;” SOLAS, 1974, as amended, Regulation I/2(e).

These existing requirements, voluntary codes, and guidelines take into account the risks generally associated with each ship type's operation, and include design and operation standards for damage stability, fire safety, safe means of escape, and training. Despite the lack of current federal regulations that specifically address the design, construction, and operation of vessels providing accommodation service, we are aware that some of these vessels have been built to certain classification society or proprietary standards.

III. Discussion

A. Areas of Concern and Casualties

Under federal statutes and regulations, the Coast Guard is responsible for promoting the safety of life and property and protection of the marine environment on, under and over waters subject to the jurisdiction of the United States.³ The Coast Guard is concerned about the safety of operations of vessels providing accommodation service on the U.S. OCS because those operations are typically far offshore, distant from search and rescue assets, and located near high risk industrial activities.

³ See, e.g., 14 U.S.C. 2, 43 U.S.C. 1331, et seq., and 33 CFR 140.1.

More critically, those operations may involve large numbers of accommodated personnel, many of whom may not have received adequate training in firefighting, personal survival, lifeboat/raft procedures, modes of evacuation, or personal safety and may not be sufficiently familiar with the vessel. Accommodated personnel might not be credentialed mariners and their marine experience, capability and training may range from none to extensive. Additionally, the number of marine crew, who are responsible for shipboard safety, may not be sufficient to direct and assist the number of accommodated personnel in the event of an emergency.

These risk factors drive concerns about requirements governing vessel manning and design, emergency systems, design and operation of DPS, design and operation of systems used to transfer personnel between a vessel providing accommodation service and an OCS installation, and training. Many of these safety concerns, which are common for most vessels, are associated with fire safety systems, lifesaving equipment, means of escape, subdivision and stability. In the case of a vessel providing accommodation service, these systems should be appropriate for the number of personnel being accommodated, their experience level as mariners, and their familiarity with those systems.

There are other concerns, too. When a vessel is providing accommodation service for an OCS installation, the vessel is relatively close to the installation and often uses a DPS to maintain position. In the event of a malfunction of the DPS, there is increased risk of collision with the OCS installation or uncontrolled movement of the vessel. In addition, the risks associated with the operation or failure of the system used to transfer personnel between the OCS installation and the vessel providing the accommodation service are a source of concern.

The degree of concern in these areas may be elevated if the vessel providing accommodation service was designed and constructed using standards appropriate for vessels with fewer people on-board and/or with people with greater familiarity with the vessel and its systems. In this context, we note that neither Coast Guard nor international standards for MODUs, OSVs, cargo and miscellaneous vessels were developed for vessels providing accommodation service. The factors associated with the concerns cited above, combined with greater distances from available search and rescue assets, could affect the outcome of an emergency on board a vessel providing accommodation service.

There have also been a number of casualties over the years involving vessels providing accommodation service. The most recent of these involved the April 12, 2011, capsizing of the Mexican flagged, column-stabilized accommodation vessel Jupiter 1 with over 700 persons aboard in relatively shallow, calm water in the Bay of Campeche. The people were safely evacuated by ship in this case, but the outcome could have been tragically worse had it occurred in deep water, far from shore and rescue assets, or in more severe environmental conditions. Other casualties ⁴ further highlight our concerns.

⁴ The capsizing of the semi-submersible accommodation vessel Alexander L. Kielland on March 27, 1980, while positioned in the central North Sea resulted in the loss of 123 lives. In February 1992, eleven people died in a helicopter crash in very high gusting winds during a 200 meter transport of workers from the Cormorant Alpha production platform to the accommodation vessel Safe Supporter in the North Sea. On July 21, 2010, five oil cleanup workers were injured in a mess hall fire aboard a barge on Baptiste Collette Bayou, Louisiana that was fitted with stacked shipping containers converted to accommodation modules sufficient to quarter more than 500 workers. On August 10, 2010, while accommodating 270 workers off Barrow Island, Western Australia, the Norwegian flag passenger ship Finnmarken was holed by a barge after it broke free from moorings during severe weather—the vessel subsequently sailed under its own power to port for repairs.

In light of these risk factors, concerns and casualties, and the lack of regulations written specifically to govern the design, construction and operation of U.S. and foreign flag vessels providing accommodation service on the U.S. OCS, the Coast Guard is soliciting public input on the most appropriate standards for all vessels providing accommodation service on the U.S. OCS.

B. Standards for Vessels Providing Accomodation Service

We recognize that accommodated personnel are neither marine crew nor explicitly included in other personnel categories, and are not treated as traditional passengers either. While passengers would generally be expected to have little or no sea-going experience or familiarity with vessel systems, the level of that experience and familiarity may vary widely among accommodated personnel. For this reason, some accommodated personnel could be expected to behave like passengers in an emergency.

Because accomodated personnel are not marine crew or explicitly included in another personnel category, and in view of the risks, concerns and casualties described above in section III.A., the use of MODU, OSV, or cargo and miscellaneous vessel standards may not be appropriate for vessels providing accommodation service. Instead, passenger ship safety standards, supplemented by requirements addressing DPS and personnel transfer, may be more appropriate for these vessels.

IV. Request for Comments

In summary, the Coast Guard recognizes that federal statutes or regulations that explicitly address the design, construction, and operation of vessels providing accommodation services do not exist, that cargo ship or MODU safety standards may not be appropriate for these vessels, and that passenger ship safety standards supplemented by DPS and personnel transfer standards may be more appropriate.

We request comment on the standards appropriate for existing, new, and planned U.S. and foreign flag vessels that are engaging or would engage in accommodation service on the OCS, including appropriate DPS, personnel transfer system, manning, and training standards. We also request views on whether accommodated personnel should be treated as passengers, marine crew, special personnel, another personnel category, or a combination thereof. We further request information on the impact appropriate standards might have on such vessels and their operation. Additionally, we are interested in obtaining information about the scope of accommodation service provided by U.S. and foreign flag vessels on the U.S. OCS since January 1, 2002, including:

A. On vessels that are providing, or have provided, accommodation service:

1. The type of vessel used (e.g., column-stabilized mobile offshore unit, passenger ship, offshore supply vessel, liftboat, barge, etc.);

2. The number and size of such vessels, including the length, breadth, depth, number of crew, number of accommodated persons, tonnage and any other information relevant to vessel capability;

3. The time interval that a vessel provided accommodation service;

4. The safety standards the vessel uses (e.g., SOLAS Cargo Ship, SOLAS Passenger Ship, 2009 IMO MODU Code, etc.);

5. The DPS used, if any, and the standards associated therewith;

6. The personnel transfer system used and the standards associated therewith; and,

7. Any other pertinent vessel information, including construction and operation costs, charter rates, and the average day rate per accommodated person on a vessel.

B. On crew and accommodated personnel:

1. The training, including special training, that crew receive in crowd or crisis management, passenger safety, or similar training required to be provided to crew on SOLAS passenger ships by the International Convention on Standards of Training, Certification and Watchkeeping for Seafarers, 1978, (STCW);

2. The crew size, both licensed and other credentialed, and variations based on the number of accommodated personnel;

3. The frequency or degree to which the population of accommodated personnel changes over the course of a job or a given period of time;

4. The degree of training and experience of accommodated personnel (e.g., marine credentials, STCW basic safety training or similar, training provided by vessel crew, frequency and degree of participation in drills); and,

5. Any other pertinent information on the scope of accommodation service (e.g., crew cycling, replenishment, shore-based and on-board training, repatriation).

Please provide any comments in accordance with the procedures in the “Public Participation and Request for Comments” section above.

V. Authority

This document is issued under the authority of the Outer Continental Shelf Lands Act, 43 U.S.C. § 1331, et seq., 5 U.S.C. 552(a), and 33 CFR 1.05-1.

Dated: January 26, 2012.
J.G. Lantz,
Director of Commercial Regulations and Standards, U.S. Coast Guard.

[FR Doc. 2012-2119 Filed 1-31-12; 8:45 am]

BILLING CODE 9110-04-P